ENVIRONMENTAL PROTECTION AGENCY

[EPA-HQ-OAR-2022-0045; FRL-11347-01-OMS]

Information Collection Request Submitted to OMB for Review and Approval; Comment Request; NSPS for Commercial and Industrial Solid Waste Incineration (CISWI) Units (Renewal)

AGENCY: Environmental Protection Agency (EPA).

ACTION: Notice.

SUMMARY: The Environmental Protection Agency has submitted an information collection request (ICR), NSPS for Commercial and Industrial Solid Waste Incineration (CISWI) Units (EPA ICR Number 2384.06, OMB Control Number 2060-0662), to the Office of Management and Budget (OMB) for review and approval in accordance with the Paperwork Reduction Act. This is a proposed extension of the ICR, which is currently approved through September 30, 2023. Public comments were previously requested, via the Federal Register, on July 22, 2022 during a 60-day comment period. This notice allows for an additional 30 days for public comments.

DATES: Comments may be submitted on or before September 18, 2023.

ADDRESSES: Submit your comments, referencing Docket ID Number EPA-HQ-OAR-2022-0045, to EPA online using https://www.regulations.gov/ (our preferred method), or by email to a-and-r-docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by jusing the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through September 30, 2024. An agency may neither conduct nor sponsor, and a person is not required to a collection of information, unless it displays a currently valid OMB control number.

Public comments were previously requested, via the Federal Register, on July 22, 2022, during a 60-day comment period (87 FR 43843). The notice allows for an additional 30 days for public comments. Supporting documents, which explains in detail the information that the EPA will be collecting, are available in the public docket for this ICR. The docket can be viewed online at www.regulations,gov or in person at the EPA Docket Center, WJC West, Room 3334, 1301 Constitution Avenue NW, Washington, DC. The telephone number for the Docket Center is 202-566-1744. For additional information about EPA's public docket, visit http://www.epa.gov/dockets.

Abstract: The New Source Performance Standards (NSPS) for Commercial and Industrial Solid Waste Incineration (CISWI) Units (40 CFR part 60, subpart CCCC) apply to Commercial and Industrial Solid Waste Incineration (CISWI) units that either commenced construction after June 4, 2010, or commenced reconstruction or modification after August 7, 2013. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of new CISWI units.

Respondent's obligation to respond: Mandatory (40 CFR part 60, subpart CCCC).

Estimated number of respondents: 16 (total).

Frequency of response: Annually, semiannually.

Total estimated burden: 2,230 hours (per year). Burden is defined at 5 CFR 1320.3(b).

Total estimated cost: $1,480,000 (per year), which includes $1,210,000 in annualized capital/startup and/or operation & maintenance costs.

Changes in the Estimates: The increase in burden from the most-recently approved ICR is due to an adjustment(s). The adjustment increase in burden from the most-recently approved ICR is due to an increase in the number of new or modified sources, rather than any program changes. A more accurate count of sources was gathered from the Enforcement and Compliance History Online (ECHO) database, which more accurately represents the current industry landscape. Additionally, capital/startup and O&M costs will also increase due to the increase in number of sources. Capital/startup and O&M costs have been adjusted from 2010$ to 2020$ using the Chemical Engineering Plant Cost Index (CEPCI). There is an increase in costs, which is due to the use of updated labor rates. This ICR uses labor rates from the most-recent Bureau of Labor Statistics report (September 2021) to calculate respondent burden costs.

Courtney Kerwin,
Director, Regulatory Support Division.

[FR Doc. 2023-17842 Filed 8-17-23; 8:45 am]

BILLING CODE 6560-50-P